DEPARTMENT OF TRANSPORTATION

Federal Aviation Administration

Notice of Opportunity for Public Comment on Surplus Property Release at Beverly Airport in Beverly, MA

AGENCY: Federal Aviation Administration (FAA), DOT.

ACTION: Request for public comments.

SUMMARY: Under the provisions of Title 49, U.S.C. Section 47153(d), notice is being given that the FAA is considering a request from Beverly Airport in Beverly, MA to change the use of a certain parcel of land and associated building from Aeronautical to Non-Aeronautical Land for future non-aeronautical revenue generation at Beverly Airport in Beverly, MA.

The subject parcel contains Building #45 and 19 automobile parking spaces which is currently vacant and is landside with no access to aviation areas. The building is in poor condition. The City of Beverly, working with the Beverly Airport Commission, will renovate the building and in the near term, serve as office space for a City Department. Space within the building will also be prepared for future lease to generate non-aeronautical revenue for the airport. The cost to renovate the building was estimated at a minimum of approximately $300,000 and will serve as the in-lieu lease payment over the next 10 years. The area for non-aeronautical revenue generation for the airport will be derived from leasing of this space by the airport and those proceeds will be deposited into the Airport's dedicated fund and will be used for continued operation and maintenance of the airport. At the end of the 10 year lease with the City, the building will be available for future non-aeronautical lease revenue generation for the airport.

DATES: Comments must be received on or before March 28, 2016.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, Telephone 781-238-7618.

Issued in Burlington, Massachusetts, on February 16, 2016.
Mary T. Walsh,
Manager, Airports Division.

[FR Doc. 2016-04225 Filed 2-25-16; 8:45 am]

BILLING CODE P